DEPARTMENT OF DEFENSE

Department of the Army, Corps of Engineers

Intent To Prepare a Revised Draft Supplemental Environmental Impact Statement (DSEIS) for the St. Johns Bayou and New Madrid Floodway Project, Missouri, First Phase

AGENCY: U.S. Army Corps of Engineers, DoD.

ACTION: Notice of intent.

SUMMARY: Development of environmentally sustainable flood protection alternatives for the St. Johns Bayou and New Madrid Floodway basins is the purpose of the proposed reevaluation. A Notice of Availability for the Final Supplemental Environmental Impact Statement (FSEIS) on the St. Johns Bayou and New Madrid Floodway, Missouri, First Phase, Supplement to the 1982 St. Johns Bayou-New Madrid Floodway Final Supplemental Environmental Impact Statement and the Mississippi River and Tributaries Project, Mississippi River Levees and Channel Improvement 1976 Final Environmental Impact Statement was published in the Federal Register on September 8, 2000. The FSEIS was distributed to Federal and State agencies and the public. The FSEIS evaluated plans that provide flood protection in the St. Johns Bayou and New Madrid Floodway Basins in southeast Missouri. Substantive comments promulgated by the Department of the Interior, U.S. Environmental Protection Agency (EPA), and the State of Missouri concerning the FSEIS array of alternatives resulted in the Corps of Engineers decision to prepare a revised DSEIS to evaluate alternative levee closure alignments and relevant mitigation options.

FOR FURTHER INFORMATION CONTACT: Mr. Larry Sharpe, telephone (901) 544-3476, CEMVM-PM-P, 167 North Main street, B-202, Memphis, TN 38103-1894. Questions or comments regarding the revised DSEIS (including scoping input) may be directed to Mr. David L. Reece, Chief, Environmental and Economic Analysis Branch, telephone (901) 544-3970, CEMVM-PM-E, or Mr. John Rumancik, telephone (901) 544-3975, CEMVM-PM-E.

SUPPLEMENTARY INFORMATION: The St. Johns Bayou Basin and New Madrid Floodway are located in the Bootheel region of southeast Missouri, and include all or portions of New Madrid, Scott, and Mississippi counties. The basins are adjacent to the Mississippi River, and subject to both backwater and interior headwater flooding. Congress authorized the Mississippi River and Tributaries (MR&T) Project in the Flood Control Act of 1928, to construct the mainline Mississippi River levees. The Birds Point—New Madrid Floodway was a portion of the 1928 Flood Control Act. A levee closure and outlet structure at New Madrid, Missouri, were authorized in the Flood Control Act of 1954 (Pub. L. 780-83), but not constructed. The St. Johns Bayou Basin levee closure, with drainage structure, was authorized in the Flood Control Act of July 24, 1946, and subsequently constructed. An EIS for the MR&T and Channel Improvement was filed with the Council on Environmental Quality on July 2, 1976, which addressed the New Madrid Floodway levee closure. The St. Johns Bayou/New Madrid Floodway Project Final Supplemental Environmental Impact Statement (SEIS) was filed with the EPA on July 23, 1982. The current project was authorized for construction by the Water Resources Development Act of 1986 (Pub. L. 99-662), section 401(a). The authorized project is based on the Report of the Chief of Engineers, dated January 4, 1983, which is part of the Phase I General Design Memorandum (GDM) documents prepared in response to section 101(a) of the Water Resources Development Act of 1976 (Pub. L. 94-587). This revised DSEIS is being prepared to supplement the 1976 MR&T EIS and the 1982 St. Johns Bayou/New Madrid Floodway Project Final SEIS.

1. Proposed Action

The recommended plan of improvement for the First Phase work, as evaluated in the September 2000 FSEIS, includes about 23 miles of channel modification, a 1,000 cfs pumping station for the St. Johns Bayou Basin area, a 1,500 cfs pumping station for the New Madrid Floodway area, and a 1,500 foot closure levee and gravity outlet structure at the southern end of the New Madrid Floodway. The revised DSEIS will address and evaluate the environmental and economic impacts of alternative levee closure locations, develop and discuss the locations of potential compensatory mitigation sites, and further address concerns from Federal and State resource agencies.

2. Alternatives

Several flood reduction alternatives, including mitigation, were evaluated in the previous EIS(s). In addition to the recommended plan, the September 2000 FSEIS included a reevaluation of the 1986 authorized plan for flood protection and NO Action alternative. The revised DSEIS will analyze other alternative levee closure alignments and options inside the New Madrid Floodway. Each alternative levee closure alignment would result in different amounts of cropland and wooded land available for periodic Mississippi River backwater flooding to provide fishery spawning and rearing habitats.

3. Scoping Process

An intensive public involvement program has been ongoing. There have been additional interagency environmental and project sponsor meetings since the September 2000 FSEIS was produced. Interagency environmental meetings will continue to be held as needed. Significant issues to be addressed in the revised DSEIS will include alternative levee closure locations for the New Madrid Floodway, related impacts, and fish and wildlife mitigation alternatives. This NOI will serve as a request for scoping input. Interested parties are invited to provide comments or concerns to the above address. It is anticipated that the revised DSEIS will be available for public review in the Fall of 2001.

Luz D. Ortiz,
Army Federal Register Liaison Officer.

[FR Doc. 01-8554 Filed 4-5-01; 8:45 am]

BILLING CODE 3710-KS-M